DEPARTMENT OF TRANSPORTATION

Federal Aviation Administration

14 CFR Part 39

[Docket No. FAA-2025-1113; Project Identifier MCAI-2024-00552-A; Amendment 39-23138; AD 2025-18-11]

RIN 2120-AA64

Airworthiness Directives; Polskie Zaklady Lotnicze Sp. z o.o. Airplanes

AGENCY: Federal Aviation Administration (FAA), DOT.

ACTION: Final rule.

SUMMARY: The FAA is adopting a new airworthiness directive (AD) for all Polskie Zaklady Lotnicze Sp. z o.o. Model PZL M28 05 airplanes. This AD was prompted by incorrect flap settings and airspeed during approach for landing under one engine inoperative (OEI) conditions in the airplane flight manual (AFM) emergency procedures. This AD requires revising the existing AFM for your airplane to provide the correct emergency procedures. The FAA is issuing this AD to address the unsafe condition on these products.

DATES: This AD is effective October 29, 2025.

The Director of the Federal Register approved the incorporation by reference of a certain publication listed in this AD as of October 29, 2025.

ADDRESSES:

AD Docket: You may examine the AD docket at regulations.gov under Docket No. FAA-2025-1113; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Polskie Zaklady Lotnicze material identified in this AD, contact Polskie Zaklady Lotnicze Sp. z o.o., Wojska Polskiego 3, 39-300 Mielec, Poland; phone: +48 17 743 1901; email: pzl.lm@global.lmco.com; website: pzlmielec.pl.

• You may view this material at the FAA, Airworthiness Products Section, Operational Safety Branch, 901 Locust, Kansas City, MO 64106. For information on the availability of this material at the FAA, call (817) 222-5110. It is also available at regulations.gov under Docket No. FAA-2025-1113.

FOR FURTHER INFORMATION CONTACT: Doug Rudolph, Aviation Safety Engineer, FAA, 1600 Stewart Avenue, Suite 410, Westbury, NY 11590; phone: (816) 329-4059; email: doug.rudolph@faa.gov.

SUPPLEMENTARY INFORMATION:

Background

The FAA issued a notice of proposed rulemaking (NPRM) to amend 14 CFR part 39 by adding an AD that would apply to all Polskie Zaklady Lotnicze Sp. z o.o. Model PZL M28 05 airplanes. The NPRM was published in the Federal Register on June 23, 2025 (90 FR 26463). The NPRM was prompted by AD 2024-0183, dated September 20, 2024 (EASA AD 2024-0183) (also referred to as the MCAI), issued by the European Union Aviation Safety Agency (EASA), which is the Technical Agent for the Member States of the European Union. The MCAI states that occurrences have been reported by pilot instructors where, during type rating training with Model PZL M28 airplanes, students applied an incorrect flap setting and airspeed while practicing the emergency procedure for an approach and landing with OEI after a simulated engine failure. The investigation concluded that the root cause for these occurrences was typographical errors in the AFM.

In the NPRM, the FAA proposed to require revising the existing AFM for your airplane to provide the correct emergency procedures. The FAA is issuing this AD to prevent pilots from applying incorrect flap settings and airspeed. The unsafe condition, if not addressed, could result in loss of control of the airplane.

You may examine the MCAI in the AD docket at regulations.gov under Docket No. FAA-2025-1113.

Discussion of Final Airworthiness Directive

Comments

The FAA received comments from two individuals. Both commenters supported the NPRM without change.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM.

Material Incorporated by Reference Under 1 CFR Part 51

The FAA reviewed pages 3-4, ENGINE FAILURE AT DESCENT (Landing Approach) and ENGINE FAILURE DURING BALKED LANDING; 3-9, BALKED LANDING WITH ONE ENGINE INOPERATIVE; 3-17, ENGINE FAILURE AT DESCENT (LANDING APPROACH); 3-18, ENGINE FAILURE DURING BALKED LANDING; and 3-25 and 3-26, BALKED LANDING WITH ONE ENGINE INOPERATIVE from Section 3, Emergency Procedures in Polskie Zakłady Lotnicze Airplane Flight Manual, Model PZL M28 05, Revision 55, dated July 9, 2024. This material provides the correct emergency procedures for the flightcrew when adjusting the flap settings and airspeed during approach for landing under simulated OEI conditions.

The FAA also reviewed Polskie Zaklady Lołnicze Check List, PZL M28 05 with PT6A-65B engines, Emergency Procedures, Revision 1, dated July 9, 2024. This material provides the flightcrew with the correct emergency procedures checklist that corresponds with the changes to Section 3, Emergency Procedures, of the AFM.

In addition, the FAA reviewed Polskie Zakłady Lotnicze Check List, PZL M28 05 with PT6A-65B engines, Emergency Procedures, effective on airplanes without the installed ice protection system certified for flights in known and forecast icing conditions, Revision 1, dated July 9, 2024. This material provides the flightcrew with the correct emergency procedures checklist that corresponds with the changes to Section 3, Emergency Procedures, of the AFM.

This material is reasonably available because the interested parties have access to it through their normal course of business or by the means identified in the ADDRESSES section.

Differences Between This AD and the MCAI

The MCAI applies to Polskie Zaklady Lotnicze Sp. z o.o. Model PZL M28 02-W airplanes, but this AD does not because this model does not have an FAA type certificate.

The MCAI requires informing all pilots about the AFM update and thereafter operating the airplane accordingly, and this AD does not because those actions are already required by FAA regulations.

Costs of Compliance

The FAA estimates that this AD affects nine airplanes of U.S. registry.

The FAA estimates the following costs to comply with this AD:

Estimated Costs
Action | Labor cost | Parts cost | Cost per product | Cost on U.S. operators
Revise AFM and checklist | 2 work-hours × $85 per hour = $170 | $0 | $170 | $1,530

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-18-11 Polskie Zaklady Lotnicze Sp. z o.o.: Amendment 39-23138; Docket No. FAA-2025-1113; Project Identifier MCAI-2024-00552-A.

(a) Effective Date

This airworthiness directive (AD) is effective October 29, 2025.

(b) Affected ADs

None.

(c) Applicability

This AD applies to Polskie Zaklady Lotnicze Sp. z o.o. Model PZL M28 05 airplanes, certificated in any category.

(d) Subject

Joint Aircraft System Component (JASC) Code 1100, Placards and Markings.

(e) Unsafe Condition

This AD was prompted by incorrect flap settings and airspeed during approach for landing under one engine inoperative conditions in the airplane flight manual (AFM) emergency procedures. The FAA is issuing this AD to prevent pilots from applying incorrect flap settings and airspeed. The unsafe condition, if not addressed, could result in loss of control of the airplane.

(f) Compliance

Comply with this AD within the compliance times specified, unless already done.

(g) Required Actions

(1) Within 30 days after the effective date of this AD, revise Section 3, Emergency Procedures of the existing AFM for your airplane to include the information specified in paragraphs (g)(1)(i) through (v) of this AD using Polskie Zakłady Lotnicze Airplane Flight Manual, Model PZL M28 05, Revision 55, dated July 9, 2024. Using a different document with information identical to the information in the sections listed in paragraph (g)(1)(i) through (v) of this AD is acceptable for compliance with the requirements of this paragraph.

(i) Page 3-4, ENGINE FAILURE AT DESCENT (Landing Approach) and ENGINE FAILURE DURING BALKED LANDING.

(ii) Page 3-9, BALKED LANDING WITH ONE ENGINE INOPERATIVE.

(iii) Page 3-17, ENGINE FAILURE AT DESCENT (LANDING APPROACH).

(iv) Page 3-18, ENGINE FAILURE DURING BALKED LANDING.

(v) Pages 3-25 and 3-26, BALKED LANDING WITH ONE ENGINE INOPERATIVE.

(2) Within 30 days after the effective date of this AD, revise the Emergency Procedures checklist of the existing AFM for your airplane to include the information specified in pages 5, 6, and 15 of Polskie Zakłady Lotnicze Check List, PZL M28 05 with PT6A-65B engines, Emergency Procedures, Revision 1, dated July 9, 2024; or Polskie Zakłady Lotnicze Check List, PZL M28 05 with PT6A-65B engines, Emergency Procedures, effective on airplanes without the installed ice protection system certified for flights in known and forecast icing conditions, Revision 1, dated July 9, 2024, as applicable.

(3) The owner/operator (pilot) holding at least a private pilot certificate may revise the existing AFM and checklist and must enter compliance with the applicable paragraph of this AD into the airplane maintenance records in accordance with 14 CFR 43.9(a) and 91.417(a)(2)(v). The record must be maintained as required by 14 CFR 91.417, 121.380, or 135.439.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i) of this AD and email to: AMOC@faa.gov.

(2) Before using any approved AMOC, notify your appropriate principal inspector, or lacking a principal inspector, the manager of the local flight standards district office/certificate holding district office.

(i) Additional Information

For more information about this AD, contact Doug Rudolph, Aviation Safety Engineer, FAA, 1600 Stewart Avenue, Suite 410, Westbury, NY 11590; phone: (816) 329-4059; email: doug.rudolph@faa.gov.

(j) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Section 3, Emergency Procedures in Polskie Zakłady Lotnicze Airplane Flight Manual, Revision 55, Model PZL M28 05, dated July 9, 2024, pages:

(A) 3-4, ENGINE FAILURE AT DESCENT (Landing Approach); and ENGINE FAILURE DURING BALKED LANDING;

(B) 3-9, BALKED LANDING WITH ONE ENGINE INOPERATIVE;

(C) 3-17, ENGINE FAILURE AT DESCENT (LANDING APPROACH);

(D) 3-18, ENGINE FAILURE DURING BALKED LANDING; and

(E) 3-25 and 3-26, BALKED LANDING WITH ONE ENGINE INOPERATIVE.

(ii) Polskie Zakłady Lotnicze Check List, PZL M28 05 with PT6A-65B engines, Emergency Procedures, Revision 1, dated July 9, 2024.

(iii) Polskie Zakłady Lotnicze Check List, PZL M28 05 with PT6A-65B engines, Emergency Procedures, effective on airplanes without the installed ice protection system certified for flights in known and forecast icing conditions, Revision 1, dated July 9, 2024.

(3) For Polskie Zakłady Lotnicze material identified in this AD, contact Wojska Polskiego 3, 39-300 Mielec, Poland; phone: +48 17 743 1901; email: pzl.lm@global.lmco.com; website: pzlmielec.pl.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on September 12, 2025.
Steven W. Thompson,
Acting Deputy Director, Compliance & Airworthiness Division, Aircraft Certification Service.

[FR Doc. 2025-18499 Filed 9-23-25; 8:45 am]

BILLING CODE 4910-13-P